DEPARTMENT OF HEALTH AND HUMAN SERVICES

Substance Abuse and Mental Health Services Administration

Advisory Committee for Women's Services (ACWS); Notice of Meeting

Pursuant to Public Law 92-463, notice is hereby given of two meetings of the Substance Abuse and Mental Health Services Administration's (SAMHSA) Advisory Committee for Women's Services (ACWS), including a subcommittee meeting of the Maternal Mental Health Task Force (MMHTF) on April 2, 2024 and April 17, 2024.

The meetings will include discussions on assessing SAMHSA's current strategies, including the mental health and substance use needs of the women and girls population. Additionally, the ACWS and MMHTF subcommittee will be addressing strategic initiatives and policy recommendations regarding Maternal Behavioral Health.

The meetings are open to the public and will be held virtually. Interested persons may present data, information, or views, orally or in writing, on issues pending before the committee. Written submissions and oral presentations from the public should be coordinated with the contact person by March 22, 2024, for the meeting on April 2, 2024; and on April 8, 2024, for the meeting of April 17, 2024. Oral presentations from the public will be scheduled at the conclusion of the meeting during the Public Comment section. Up to five minutes will be allotted for each presentation and as time permits, as these are presented in a first come first serve basis. All oral and written comments will become part of the meeting's official records.

The meetings may be accessed via telephone or web meeting. To obtain the call-in number and access code, submit written or brief oral comments, or request special accommodations for persons with disabilities, please register on-line at: https://snacregister.samhsa.gov/ or communicate with SAMHSA's Designated Federal Officer, Ms. Valerie Kolick.

Substantive meeting information and a roster of ACWS members may be obtained either by accessing the SAMHSA Committees' Web https://www.samhsa.gov/about-us/advisory-councils/acws or by contacting Ms. Kolick.

Committee Name: Substance Abuse and Mental Health Services Administration, Advisory Committee for Women's Services (ACWS).

Date/Time/Type: Tuesday, April 2, 2024, from 9 a.m. to 4:30 p.m. ET (OPEN); Wednesday, April 17, 2024, from 11 a.m. to 3:30 p.m. ET (OPEN).

Place: SAMHSA, 5600 Fishers Lane, Rockville, MD 20857.

Contact: Valerie Kolick, Designated Federal Officer, SAMHSA's Advisory Committee for Women's Services, 5600 Fishers Lane, Rockville, MD 20857, Telephone: (240) 276-1738, Email: Valerie.kolick@samhsa.hhs.gov.

Dated: March 4, 2024.
Carlos Castillo,
Committee Management Officer.

[FR Doc. 2024-04936 Filed 3-7-24; 8:45 am]

BILLING CODE 4162-20-P